FEDERAL COMMUNICATIONS COMMISSION

[CC Docket No. 94-102; DA 04-3874]

State Actions To Achieve Effective Deployment of E911 Capabilities for Multi-Line Telephone Systems (MLTSs)

AGENCY: Federal Communications Commission.

ACTION: Notice; solicitation of comments.

SUMMARY: This document solicits comments about the progress made by the states in implementing E911 solutions for multi-line telephone systems (MLTSs). The Commission committed to releasing a public notice on this issue in its previous documents that revised the scope of the enhanced 911 rules to clarify which technologies and services will be required to be capable of transmitting enhanced 911 information to Public Safety Answering Points (PSAPs).

DATES: Comments are due on or before February 28, 2005. Reply comments are due on or before March 29, 2005.

ADDRESSES: Federal Communications Commission, 445 12th Street SW., Washington DC 20554. See SUPPLEMENTARY INFORMATION for further filing instructions.

FOR FURTHER INFORMATION CONTACT: Contact Michael Goldstein, Wireline Competition Bureau, (202) 418-0806, michael.goldstein@fcc.gov; or Cathy Zima, Wireline Competition Bureau, (202) 418-7380, cathy.zima@fcc.gov. Users of TTY equipment, call (202) 418-0484.

SUPPLEMENTARY INFORMATION: This public notice solicits comment about the progress made by the states in implementing E911 solutions for multi-line telephone systems (MLTSs). When an emergency (i.e., 911) call is placed from a station served by an MLTS, the Public Safety Answering Point (PSAP) receiving the call will not always be able to identify the office, dormitory room or other detailed location of the caller. This problem is well known and has been a subject of several Commission proceedings. In its Report and Order and Second Further Notice of Proposed Rulemaking, Final rule; 69 FR 6578, February 11, 2004, and Proposed rule; 69 FR 6595, February 11, 2004, the Commission was concerned that “the lack of effective implementation of MLTS E911 could be an unacceptable gap in the emergency call system” but declined to adopt federal rules to address this issue, because the record demonstrated that state and local governments are in a better position to devise such rules for their jurisdictions. Expecting the “states to act expeditiously in this area,” the Commission committed to releasing a public notice in a year to examine states' progress and announced its intention to re-visit the E911-MLTS/caller location issue depending on the results of its evaluation of state action.

Status of State Action

Public sources indicate that approximately twelve states have adopted legislation addressing E911 requirements for MLTSs. These same sources indicate that some state regulatory commissions have promulgated regulations addressing these requirements. We seek public comment about state-adopted statutes and regulations, as well as about proposals for action in this area that may be currently under consideration and the anticipated time frames for conclusion of such proposals. We specifically ask commenters to identify and discuss state actions that may be based on model legislation such as that proposed by the National Emergency Number Association (NENA) and the Association of Public-Safety Communications Officials (APCO).

More specifically, we ask commenters to identify and discuss relevant state activity by: (1) Specific identification (citation) to a particular statute or regulation, or proposed statute or regulation, in each case; (2) identification of any corresponding state Web page where these activities are presented or discussed; (3) identification of the date any final legislative or regulatory action became effective or is expected to become effective; (4) discussion of any requirements placed on carriers, MLTS equipment manufacturers, MLTS operators, or any other persons; and (5) discussion of how the statute and/or regulation is enforced.

With regard to (4), commenters should note whether any entities are specifically exempted from adopted requirements imposed by the legislation or regulations and explain the criteria for exemption. To the extent legislation or regulation was proposed but not ultimately adopted, we invite parties to explain why such action was not taken, such as cost concerns, technical complexity, and the perceived lack of demand or need for the proposed requirements.

Use of Model Legislation

The Commission's Report and Order and Second Further Notice of Proposed Rulemaking states: “we believe that the Model Legislation submitted by NENA and APCO offers the states a valuable blueprint for their own laws,” and “we strongly support the approach taken by the model legislation.” With this view of the model legislation, we request information regarding how it has affected efforts by the states to produce their own statutes. In particular, please describe how this model legislation has been used in determining states' approaches, how extensively this model legislation has been and is being used, and its perceived shortcomings.

In addition to use of this particular model legislation, we invite comment as to whether there are any other models that states have found useful in developing legislation, e.g., laws passed in any other state. We ask commenters to identify such examples and analyze their possible utility for widespread use.

Carrier Services Provided Under State Tariff

Although our primary focus is evaluating state action addressing E911/MLTS issues, we also seek comment on the extent to which carriers and others offer E911 solutions for MLTSs. It appears that at least one carrier is providing E911 service for MLTSs under tariff in at least one state, and that carrier works with individual MLTS operators elsewhere within its footprint to implement customer-specific solutions if such are economically and technically feasible. We seek comment regarding the availability of E911/MLTS services offered under tariff or otherwise both in states that have passed E911/MLTS legislation or adopted E911/MLTS regulations and in states that have not. In particular, where these services are offered absent state legislative or regulatory action, we seek comment regarding the reasons the services were developed.

Specifically, commenters should (1) identify the carrier and the state or states in which that carrier offers or plans to offer E911 service for MLTSs; (2) provide links to the carrier's published tariffs, and identify the effective dates of those tariffs, where applicable; (3) identify the salient technical features of each service offered under tariff, including but not limited to which MLTS technologies are supported (e.g., Centrex, analog PBX, ISDN PBX, non-ISDN digital PBX, IP-PBX, or key system), which E911 MLTS-to-network technical interface standards or other specifications are supported (e.g., CAMA or Primary Rate Access (PRA) ISDN), and any special requirements regarding trunking arrangements or the use of Direct Inward Dial (DID) numbers; (4) identify salient operational characteristics of the service; (5) identify the Automatic Location Identification (ALI) database interface options and costs for MLTS operators, the procedural impacts on MLTS operators, and the ALI database interface standards or specifications supported; (6) indicate whether PSAPs generally have been able to receive and utilize the ALI and call-back information provided and, if not, why not; (7) estimate the degree to which the offerings satisfy or cover the MLTS market; and (8) identify real or perceived technical, economic, operational and other impediments to full E911 coverage for MLTSs.

Where specific technical features are required by state legislation or regulation, we ask that commenters identify those features. For those states where E911/MLTS service is provided under customer-specific arrangements, such as individual case basis (ICB) arrangements, we ask that commenters present and discuss all relevant information to allow us to characterize the available technical features. In each case, commenters should be sufficiently complete and specific in their descriptions of requirements and references to standards to enable us to develop a comprehensive picture of commonalities and differences in E911/MLTS implementation across the states.

Comment Filing Procedures

Pursuant to §§ 1.415 and 1.419 of the Commission's rules, interested parties may file comments on or before February 28, 2005. Reply comments are due on or before March 29, 2005. Comments may be filed using the Commission's Electronic Comment Filing System (ECFS) or by filing paper copies. See Electronic Filing of Documents in Rulemaking Proceedings, 63 FR 24121, May 1, 1998. When filing comments, please reference CC Docket No. 94-102. Comments may be filed electronically using the Internet by accessing the ECFS at http://www.fcc.gov/cgb/ecfs/ and following the instructions provided on the Web site. Generally, only one copy of an electronic submission must be filed. In completing the transmittal screen, commenters should include their full name, U.S. Postal Service mailing address, and the applicable docket number. Parties may also submit an electronic comment by Internet e-mail. To get filing instructions for e-mail comments, commenters should send an e-mail to ecfs@fcc.gov, and should include the following words in the body of the message, “get form <your email address.” A sample form and directions will be sent in reply.

Parties who choose to file by paper must file an original and four copies of each filing. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. One copy of each filing must be sent to Best Copy and Printing, Inc., Portals II, 445 12th Street, SW., Room CY-B402, Washington, DC 20554, telephone 1-800-378-3160, or online at http://www.bcpiweb.com.

Parties who choose to file by paper must also send three paper copies of their filing to the attention of Michael Goldstein, Industry Analysis and Technology Division, Wireline Competition Bureau, Federal Communications Commission, 445 12th Street, SW., Room 5-A422, Washington, DC 20554.

Pursuant to § 1.1206 of the Commission's rules, 47 CFR 1.1206, this proceeding will continue to be conducted as a permit-but-disclose proceeding in which ex parte communications are permitted subject to disclosure.

Federal Communications Commission.
Cathy H. Zima,
Acting Deputy Chief, Industry Analysis and Technology Division.

[FR Doc. 05-652 Filed 1-12-05; 8:45 am]

BILLING CODE 6712-01-P